INTERNATIONAL TRADE COMMISSION

[Investigation No. 337-TA-1270]

Certain Casual Footwear and Packaging Thereof; Notice of Correction of a Commission Opinion

AGENCY: International Trade Commission.

ACTION: Notice.

SUMMARY: Notice is hereby given that the U.S. International Trade Commission (“Commission”) is correcting two typos in its confidential Opinion of September 14, 2023, in the above-captioned investigation.

FOR FURTHER INFORMATION CONTACT: Carl P. Bretscher, Esq., Office of the General Counsel, U.S. International Trade Commission, 500 E Street SW, Washington, DC 20436, telephone (202) 205-2382. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: On page 40, line 2 and page 43, line 13 of its confidential Opinion, the Commission replaces “Amoji” with “La Modish” for La Modish Boutique of West Covina, California, one of four respondents previously found to be in default. See Order No. 58 (May 20, 2022), unreviewed by Comm'n Notice (June 10, 2022).

The authority for the Commission's determination is contained in section 337 of the Tariff Act of 1930, as amended (19 U.S.C. 1337), and in part 210 of the Commission's Rules of Practice and Procedure (19 CFR part 210).

By order of the Commission.
Issued: October 4, 2023.
Lisa Barton,
Secretary to the Commission.

[FR Doc. 2023-22423 Filed 10-6-23; 8:45 am]

BILLING CODE 7020-02-P